DEPARTMENT OF ENERGY

Federal Energy Regulatory Commission

[Docket No. CP11-168-000]

Eastern Shore Natural Gas Company; Notice of Request Under Blanket Authorization

Take notice that on April 1, 2011, Eastern Shore Natural Gas Company (Eastern Shore), 1110 Forrest Avenue, Dover, Delaware, 19904, pursuant to its blanket certificate issued in Docket No. CP96-128-000,¹ filed an application in accordance to sections 157.205(b), 157.208(c), and 157.210 of the Commission's Regulations under the Natural Gas Act (NGA) as amended, for the construction, ownership, and operation of new mainline facilities in New Castle County, Delaware, all as more fully set forth in the application, which is on file with the Commission and open to public inspection.

¹ 81 FERC ¶ 61,013 (1997).

In order to provide additional firm natural gas transportation service to Delaware City Refining Company LLC (DCRC), Eastern Shore proposes to construct, own, operate, and maintain about 0.7 miles of new sixteen-inch steel pipeline looping along the existing corridor of Porter Road, and about 0.26 miles of new ten-inch steel pipeline looping along the existing corridor of School House Road in New Castle County, Delaware. Eastern Shore has entered into a binding Precedent Agreement with DCRC in which DCRC has agreed to execute a nine-and-a half-year FT Service Agreement with Eastern Shore to provide additional natural gas transportation service of 3,405 dts/day under Eastern Shore's maximum FT Zone One Tariff Rate on file with the Commission. The total estimate cost of the proposed facilities is $1,733,975. Eastern Shore proposes the facilities to be completed and placed into service by November 1, 2011.

Any questions concerning this application may be directed to Glen DiEleuterio, Project Manager, at (302) 734-6710, ext. 6723 or via fax (302) 734-6745, or e-mail at GDIEleuterio@esng.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Dated: April 7, 2011.
Kimberly D. Bose,
Secretary.

[FR Doc. 2011-8889 Filed 4-12-11; 8:45 am]

BILLING CODE 6717-01-P